FEDERAL COMMUNICATIONS COMMISSION

Notice of Public Information Collection(s) Being Reviewed by the Federal Communications Commission for Extension Under Delegated Authority

December 16, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before February 23, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at 202-418-0217 or via the Internet at Leslie.Smith@fcc.gov.

SUPPLEMENTARY INFORMATION: OMB Control Number: 3060-0346.

Title: Section 78.27, License Conditions.

Form Number: N/A.

Type of Review: Extension of a currently approved collection.

Respondents: Individuals or households; business and other for-profit entities; and not-for-profit institutions.

Number of Respondents: 50.

Estimated Time per Response: 10 mins. (0.167 hrs.).

Total Annual Burden: 8 hours.

Total Annual Costs: None.

Needs and Uses: 47 CFR 78.27 requires licensees of Cable Television Relay Service (CARS) stations to notify the FCC in writing when the station commences operation. A CARS licensee, which needs additional time to complete construction of the station, must request an extension of time from the FCC 30 days prior to the expiration of the one-year construction period. The Commission uses these filings to provide accurate CARS channel usage for frequency coordination, to prevent warehousing of spectrum, and to prevent frequency interference.

Federal Communications Commission.
Marlene H. Dortch,
Secretary.

[FR Doc. 03-31600 Filed 12-22-03; 8:45 am]

BILLING CODE 6712-01-P